DEPARTMENT OF TRANSPORTATION

Federal Railroad Administration

[Docket No. FRA-2021-0006-N-8]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before October 17, 2022.

ADDRESSES: Written comments and recommendations for the proposed ICR should be submitted on regulations.gov to the docket, Docket No. FRA-2021-0006. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: Hodan.Wells@dot.gov or telephone: (202) 868-9412.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Operating Rules.

OMB Control Number: 2130-0035.

Abstract: On July 24, 2019, FRA published in the Federal Register a notice of proposed rulemaking (NPRM) proposing inward- and outward-facing image recording devices be required on all lead passenger train locomotives as required by the Fixing America's Surface Transportation Act (FAST Act).¹

¹ 84 FR 35712.

Specifically, FRA proposed requiring passenger railroads to notate under the REMARKS section of Form F 6180-49A ² (Locomotive Inspection and Repair Record) on each lead locomotive in commuter or intercity rail passenger service: (1) the presence of any image or audio recording system; and (2) the date when a locomotive image recording device has been removed from service. For convenience to the railroad industry and to avoid confusion as to the application of locomotives recording device requirements, FRA would create a new form for use by passenger railroads, Form F 6180-49AP (Passenger Locomotive Inspection and Repair Record), to record this information.

² Covered under OMB Control Number 2130-0004.

Form F 6180-49AP would essentially be the same as existing Form F 6180-49A, and all information required to be entered on existing Form F 6180-49A would also be included on Form F 6180-49AP. In fact, the only substantive difference between the two forms, aside from adding “Passenger” to the form's title, would be the inclusion of an additional, designated row for entering information about the testing of locomotive image recording devices proposed under § 229.136 in the July 2019 NPRM. This new form would in no way affect use of the existing F 6180-49A form for locomotives in freight or switching service, which account for the vast majority of locomotives in the United States and are not subject to the requirements of this rule. Nor would it affect use of the F 6180-49A form by non-lead locomotives used in commuter or intercity passenger service. It would also conserve valuable space on the existing F 6180-49A form.

Because the proposed F 6180-49AP form was not discussed in the NPRM, FRA is soliciting additional public comment specific to this form.

Type of Request: Revision.

Affected Public: Businesses.

Form(s): N/A.

Respondent Universe: 765 railroads.

Frequency of Submission: On occasion.

Reporting Burden:

CFR section ³ | Respondent universe | Total annual responses | Average time per responses | Total annual burden hours | Total cost equivalent ⁴
217.7(a)—Operating rules; filing and recordkeeping—Filing of code of operating rules, timetables, and timetable special instructions by Class I, Class II, Amtrak, and commuter railroads with FRA | 2 new railroads | 2 documents | 1 hour | 2 | $154
—(b) Amendments to code of operating rules, timetables, and timetable special instructions by Class I, Class II, Amtrak, and commuter railroads with FRA | 53 railroads | 312 revised documents | 20 minutes | 104 | 8,008
—(c) Class III and other railroads—Copy of code of operating rules, timetables, and timetable special instructions at system headquarters | 2 new railroads | 2 documents | 1 hour | 2 | 154
—(c) Class III and other railroads—Amendments to code of operating rules, timetables, and timetable special instructions at system headquarters | 714 railroads | 1,596 amendments | 15 minutes | 399 | 30,723
217.9(b)(2)—Program of operational tests and inspections; recordkeeping—Written records documenting qualification of each railroad testing officer | 765 railroads | 4,732 records | 2 minutes | 158 | 12,166
—(b)(3) Development and adoption of procedure ensuring random selection of employees by railroads utilizing inward-facing locomotive and in-cab audio recordings to conduct operational tests and inspections (New requirement) | 36 railroads | 12 adopted procedures | 24 hours | 288 | 33,120
—(c) Written program of operational tests and inspections | 2 new railroads | 2 programs | 10 hours | 20 | 2,400
—(d)(1) Records of operational tests/inspections | 765 railroads | 9,120,000 test records and updates | 5 minutes | 760,000 | 58,520,000
—(d)(2) Railroad copy of current program operational tests/inspections—Amendments | 53 railroads | 159 program revisions | 70 minutes | 186 | 14,322
—(e)(1)(i) Written quarterly review of operational tests/inspections by RRs other than passenger RRs | 8 (Amtrak + 7 Class I) railroads | 32 reviews | 2 hours | 64 | 4,928
—(e)(1)(ii) 6-month review of operational tests/inspections/naming of officer | 7 Class I railroads | 14 reviews | 2 hours | 28 | 2,156
—(e)(2) 6-month review by passenger railroads designated officers of operational testing and inspection data | 35 (Amtrak + 34 passenger) railroads | 70 reviews | 2 hours | 140 | 10,780
—(e)(3) Records of periodic reviews | 50 railroads | 116 records | 1 minute | 2 | 154
—(f)-(g) Annual summary of operational tests and inspections | 50 railroads | 71 summary records | 1 hour | 71 | 5,467
—(h)(1)(i) RR amended program of operational tests/inspections | 765 railroads | 6 revised programs | 30 minutes | 3 | 231
—(h)(1)(ii) FRA disapproval of RR program of operational tests/inspections and RR written response in support of program | 765 railroads | 6 supporting documents | 1 hour | 6 | 462
217.11(a)—RR periodic instruction of employees on operating rules—New railroads | 2 new railroads | 2 written programs | 8 hours | 16 | 1,232
217.11(b)—RR copy of amendment of program for periodic instruction of employees | 765 railroads | 110 modified written programs | 30 minutes | 55 | 4,235
218.95(a)(5)-(b)—Instruction, training, examination—Employee records | 765 railroads | 85,600 employees' records | 1 minute | 1,427 | 109,879
—(c)(1)(i) Amended RR program of instruction, testing, examination | 765 railroads | 5 amended programs | 30 minutes | 3 | 231
218.97(b)(4)—RR copy of good faith challenge procedures | 765 railroads | 4,732 copies to new employees | 6 minutes | 473 | 36,421
218.97(c)(1) and (c)(4)—RR employee good faith challenge of RR directive | 10 workers | 10 gd. faith challenges | 15 minutes | 3 | 231
—(c)(5) RR resolution of employee good faith challenge | 2 new railroads | 5 responses | 15 minutes | 1 | 77
—(d)(1) RR officer immediate review of unresolved good faith challenge | 2 new railroads | 3 reviews | 30 minutes | 2 | 154
—(d)(2) RR officer explanation to employee that Federal law may protect against employer retaliation for refusal to carry out work if employee refusal is a lawful, good faith act | 2 new railroads | 3 answers | 15 minutes | 1 | 77
—(d)(3) Employee written/electronic protest of employer final decision | 2 new railroads | 3 written protests | 15 minutes | 1 | 77
—(d)(3) Employee copy of protest | 2 new railroads | 3 copies | 1 minute | 0.1 | 8
—(d)(4) Employer further review of good faith challenge after employee written request | 2 new railroads | 2 further reviews | 15 minutes | 0.5 | 39
—(d)(4) RR verification decision to employee in writing | 2 new railroads | 2 decisions | 15 minutes | 0.5 | 39
—(e) Recordkeeping and record retention—Employer's copy of written procedures at division headquarters | 765 railroads | 765 copies | 5 minutes | 64 | 4,928
218.99(a)—Shoving or pushing movement—RR operating rule complying with section's requirements | 2 new railroads | 2 rule modifications | 1 hour | 2 | 154
218.101(a)-(c)—Leaving equipment in the clear—Operating rule that complies with this section | 2 new railroads | 2 rule modifications | 30 minutes | 1 | 77
218.103(a)(1)—Hand-Operated Switches—Operating Rule that Complies with this section | 2 new railroads | 2 rule modifications | 30 minutes | 1 | 77
229.22—Locomotive image recording systems—Form FRA F 6180-49AP (New requirements) ⁵ | 36 railroads | 4,500 passenger locomotives | 15 minutes | 1,125 | 86,625
229.136(f)(1)—Passenger railroads adoption and development of chain of custody (c of c) procedures (New requirements) | 36 railroads | 12 c of c procedures | 48 hours | 576 | 44,352
—(f)(2)-(3) Passenger railroad preservation of accident/incident data of image and audio recording system from locomotive using such system at time of accident/incident (includes voluntary freight railroads & restates previous requirement under section 229.135(e)) (New requirements) | 36 railroads | 140 saved recordings | 10 minutes | 23 | 1,771
—(g) Locomotive image recording system approval process—Description of technical aspects any locomotive image recording system to FRA for approval (New requirements) | 36 railroads | 12 descriptions/plans | 20 hours | 240 | 18,480
Total | 765 railroads | 9,223,047 responses | N/A | 765,488 | 58,954,389

³ FRA anticipates that no procedures will be disapproved under § 217.9(b)(4). Additionally, the burdens associated under § 299.449 and appendix A to part 299 have been accounted for under the burden associated with § 229.136(f) and (g).

⁴ The dollar equivalent cost is derived from the Surface Transportation Board's Full Year Wage A&B data series using the appropriate employee group hourly wage rate that includes 75-percent overhead charges.

⁵ The burdens for §§ 229.21, 229.136(a)(3), (e)(2), and 229.139(i) are covered under § 229.22.

Total Estimated Annual Responses: 9,223,047.

Total Estimated Annual Burden: 765,488 hours.

Total Estimated Annual Burden Hour Dollar Cost Equivalent: $58,954,389.

FRA informs all interested parties that it may not conduct or sponsor, and a respondent is not required to respond to, a collection of information that does not display a currently valid OMB control number.

Authority: 44 U.S.C. 3501-3520.

Brett A. Jortland,
Deputy Chief Counsel.

[FR Doc. 2022-17731 Filed 8-17-22; 8:45 am]

BILLING CODE 4910-06-P